DEPARTMENT OF HOMELAND SECURITY

Federal Emergency Management Agency

[Docket ID: FEMA-2012-0017; OMB No. 1660-0059]

Agency Information Collection Activities: Submission for OMB Review; Comment Request

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 25, 2012.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: National Flood Insurance Program Call Center and Agent Referral Enrollment Form.

Type of information collection: Revision of a currently approved information collection.

Form Titles and Numbers: FEMA Form 517-0-1, National Flood Insurance Program Agent Site Registration and FEMA Form 512-0-1, National Flood Insurance Program Agent Referral Questionnaire.

Abstract: The information collection serves two purposes: (1) It allows the NFIP to service requests for flood insurance information or agent referral services from potential purchases through calls to the toll-free number or by visiting the Web site, and (2) it allows insurance agents to enroll in the Agent Referral Program and Agent Co-OP Program. If the request includes an insurance agent referral, the name and business address of insurance agents in the caller's geographic area who are enrolled in the referral service are provided.

Affected Public: Individuals or households; business or other for-profit; not-for-profit institutions.

Estimated Number of Respondents: 56,645.

Estimated Total Annual Burden Hours: FEMA form 512-0-1, .05 hours; and FEMA Form 517-0-1 (including electronic submission), .033 hours.

Estimated Cost: There are no recordkeeping, capital, start-up maintenance costs associated with this information collection.

Dated: June 20, 2012.
Charlene D. Myrthil,
Director, Records Management Division, Mission Support Bureau, Federal Emergency Management Agency, Department of Homeland Security.

[FR Doc. 2012-15419 Filed 6-22-12; 8:45 am]

BILLING CODE 9111-52-P